DEPARTMENT OF ENERGY

Federal Energy Regulatory Commission

[Docket Nos. CP02-17-002 and CP02-45-002]

Texas Eastern Transmission, L.P.; Notice of Compliance Filing

October 8, 2002.

Take notice that on October 1, 2002, Texas Eastern Transmission, L.P. (Texas Eastern) tendered for filing as part of its FERC Gas Tariff, Seventh Revised Volume No. 1 and First Revised Volume No. 2, FERC Gas Tariff, Seventh Revised Volume No. 1, the tariff sheets listed in Appendix A of the filing.

Texas Eastern states that the purpose of this filing is to comply with the Order issuing Certificates and Granting Abandonment Authority issued by the Commission on June 12, 2002 in Docket Nos. CP02-17-000 and CP02-45-000. Texas Eastern states that the tariff sheets listed in Appendix A (i) implement Texas Eastern's new Rate Schedule MLS-1 and related form of service agreement; (ii) establish maximum recourse rate and the related negotiated rate for service to New Jersey Natural Gas Company on Texas Eastern's Freehold Lateral under Rate Schedule MLS-1; (iii) establish the maximum recourse rate for service to Duke Energy Hanging Rock, LLC on Texas Eastern's Hanging Rock Lateral under Rate Schedule MLS-1; and (iv) effect the relocation of the primary delivery point to New Jersey Natural under Texas Eastern's Rate Schedules X-127 and X-129.

Texas Eastern states that copies of its filing have been mailed to all affected customer and interested state commissions.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, call (202) 502-8222 or for TTY, (202) 502-8659. The Commission strongly encourages electronic filings. See, 18 CFR 385.2001(a)(1)(iii) and the instructions on the Commission's Web site under the “e-Filing” link.

Linwood A. Watson, Jr.,
Deputy Secretary.

[FR Doc. 02-26075 Filed 10-11-02; 8:45 am]

BILLING CODE 6717-01-P